FEDERAL ELECTION COMMISSION

11 CFR Chapter I

[Notice 2017-17]

Change of Address; Technical Amendments

AGENCY: Federal Election Commission.

ACTION: Final rule.

SUMMARY: The Federal Election Commission (“FEC” or “Commission”) will relocate to a building with a different street address in 2018 and is amending its regulations referencing its current street address to reflect this change in location.

DATES: This rule is effective January 1, 2018.

FOR FURTHER INFORMATION CONTACT: Mr. Tony Buckley, Attorney, or Mr. Eugene Lynch, Paralegal, (202) 694-1650 or (800) 424-9530.

SUPPLEMENTARY INFORMATION: On March 5, 2018, the Federal Election Commission will officially relocate to a new street address: 1050 First Street NE, Washington, DC 20463. Until March 5, 2018, the Commission will continue to reside and accept mail at 999 E Street NW, Washington, DC 20463.

The Commission is promulgating these amendments without advance notice or an opportunity for comment because they fall under the “good cause” exemption of the Administrative Procedure Act. 5 U.S.C. 553(b)(B). The Commission finds that notice and comment are unnecessary here because these amendments are merely technical; they effect no substantive changes to any rule. For the same reason, these amendments fall within the “good cause” exception to the delayed effective date provisions of the Administrative Procedure Act and the Congressional Review Act. 5 U.S.C. 553(d)(3), 808(2). Moreover, because these amendments are exempt from the notice and comment procedure of the Administrative Procedure Act under 5 U.S.C. 553(b), the Commission is not required to conduct a regulatory flexibility analysis under 5 U.S.C. 603 or 604. See 5 U.S.C. 601(2), 604(a). Nor is the Commission required to submit these amendments for congressional review under the Federal Election Campaign Act of 1971, as amended, the Presidential Election Campaign Fund Act, as amended, or the Presidential Primary Matching Payment Account Act, as amended. See 52 U.S.C. 30111(d)(1), (4) (providing for congressional review when Commission “prescribe[s]” a “rule of law”); 26 U.S.C. 9009(c)(1), (4), 9039(c)(1), (4) (same).

List of Subjects

11 CFR Part 1

Privacy.

11 CFR Part 2

Sunshine Act.

11 CFR Part 4

Freedom of information.

11 CFR Part 5

Archives and records.

11 CFR Part 6

Civil rights, Individuals with disabilities.

11 CFR Part 7

Administrative practice and procedure, Conflict of interests, Government employees, Political activities (government employees).

11 CFR Part 100

Elections.

11 CFR Part 102

Political activities (government employees), Reporting and recordkeeping requirements.

11 CFR Part 104

Campaign funds, Political activities (government employees), Reporting and recordkeeping requirements.

11 CFR Part 111

Administrative practice and procedure, Elections, Law enforcement, Penalties.

11 CFR Part 112

Administrative practice and procedure, Elections.

11 CFR Part 200

Administrative practice and procedure.

11 CFR Parts 9002 and 9032

Campaign funds.

11 CFR Part 9008

Campaign funds, Political committees and parties, Reporting and recordkeeping requirements.

For the reasons set out in the preamble, the Federal Election Commission amends 11 CFR chapter I as follows:

PART 1—PRIVACY ACT

1. The authority citation for part 1 continues to read as follows:

Authority: 5 U.S.C. 552a.

2. Amend § 1.2 by revising the definition for “Commission” to read as follows:

§ 1.2 Definitions.

* * * * *

Commission means the Federal Election Commission, its Commissioners and employees. Until March 5, 2018, the Commission is located at 999 E Street NW, Washington, DC 20463. Beginning on March 5, 2018, the Commission will be located at 1050 First Street NE, Washington, DC 20463. The Commission's internet website address (www.fec.gov) remains unchanged.

* * * * *

§ 1.3 [Amended]

3. Amend § 1.3(b) by removing “Chief Privacy Officer, Federal Election Commission, 999 E Street NW, Washington, DC 20463 during the hours of 9 a.m. to 5:30 p.m.” and adding in its place “Commission's Chief Privacy Officer during the hours of 9 a.m. to 5:30 p.m. at the street address identified in the definition of “Commission” in § 1.2.”

§ 1.4 [Amended]

4. Amend § 1.4(a) by removing “, 999 E Street NW, Washington, DC 20463” and adding in its place “at the street address identified in the definition of “Commission” in § 1.2,”.

PART 2—SUNSHINE REGULATIONS; MEETINGS

5. The authority citation for part 2 continues to read as follows:

Authority: 5 U.S.C. 552b.

§ 2.2 [Amended]

6. Amend § 2.2(a) by removing “, 999 E Street NW, Washington, DC 20463”.

PART 4—PUBLIC RECORDS AND THE FREEDOM OF INFORMATION ACT

7. The authority citation for part 4 continues to read as follows:

Authority: 5 U.S.C. 552, as amended.

§ 4.5 [Amended]

8. Amend § 4.5(a)(4)(i) and (iv) by removing “999 E Street NW, Washington, DC 20463” and adding in its place “at the street address identified in the definition of “Commission” in § 1.2”.

§ 4.7 [Amended]

9. Amend § 4.7(b)(1) by removing “999 E Street NW, Washington, DC 20463” and adding in its place “at the street address identified in the definition of “Commission” in § 1.2”.

§ 4.8 [Amended]

10. Amend § 4.8(c) by removing “999 E Street NW, Washington, DC 20463” and adding in its place “at the street address identified in the definition of “Commission” in § 1.2”.

PART 5—ACCESS TO PUBLIC DISCLOSURE AND MEDIA RELATIONS DIVISION DOCUMENTS

11. The authority citation for part 5 continues to read as follows:

Authority: 52 U.S.C. 30108(d), 30109(a)(4)(B)(ii), 30111(a); 31 U.S.C. 9701.

§ 5.5 [Amended]

12. Amend § 5.5 as follows:

a. In paragraph (a), remove “on the first floor, 999 E Street NW, Washington, DC 20463”; and add in its place “at the Federal Election Commission at the street address identified in the definition of “Commission” in § 1.2”.

b. In paragraph (c), remove “999 E Street NW, Washington, DC 20463”and add in its place “at the street address identified in the definition of “Commission” in § 1.2”.

PART 6—ENFORCEMENT OF NONDISCRIMINATION ON THE BASIS OF HANDICAP IN PROGRAMS OR ACTIVITIES CONDUCTED BY THE FEDERAL ELECTION COMMISSION

13. The authority citation for part 6 continues to read as follows:

Authority: 29 U.S.C. 794.

§ 6.103 [Amended]

14. Amend § 6.103(b) by removing “, 999 E Street NW, Washington, DC 20463”.

§ 6.170 [Amended]

15. Amend § 6.170 as follows:

a. In paragraph (d)(3), remove “999 E Street NW, Washington, DC 20463”; and add in its place “Federal Election Commission, at the street address identified in the definition of “Commission” in § 1.2”.

b. In paragraph (i), remove “999 E Street NW, Washington, DC 20463”and add in its place “at the street address identified in the definition of “Commission” in § 1.2”.

PART 7—STANDARDS OF CONDUCT

16. The authority citation for part 7 continues to read as follows:

Authority: 52 U.S.C. 30106, 30107, and 30111; 5 U.S.C. 7321 et seq. and app. 3.

§ 7.2 [Amended]

17. Amend § 7.2(a) by removing “, 999 E Street NW, Washington, DC 20463”.

PART 100—SCOPE AND DEFINITIONS (52 U.S.C. 30101)

18. The authority citation for part 100 continues to read as follows:

Authority: 52 U.S.C. 30101, 30104, 30111(a)(8), and 30114(c).

§ 100.9 [Amended]

19. Amend § 100.9 by removing “, 999 E Street NW, Washington, DC 20463”.

§ 100.19 [Amended]

20. Amend § 100.19(a) by removing “999 E Street NW, Washington, DC 20463” and adding in its place “at the street address identified in the definition of “Commission” in § 1.2”.

PART 102—REGISTRATION, ORGANIZATION, AND RECORDKEEPING BY POLITICAL COMMITTEES (52 U.S.C. 30103)

21. The authority citation for part 102 continues to read as follows:

Authority: 52 U.S.C. 30102, 30103, 30104(a)(11), 30111(a)(8), and 30120.

§ 102.2 [Amended]

22. Amend § 102.2(a)(1) introductory text by removing “, 999 E Street NW, Washington, DC 20463”.

PART 104—REPORTS BY POLITICAL COMMITTEES AND OTHER PERSONS (52 U.S.C. 30104)

23. The authority citation for part 104 continues to read as follows:

Authority: 52 U.S.C. 30101(1), 30101(8), 30101(9), 30102(i), 30104, 30111(a)(8) and (b), 30114, 30116, 36 U.S.C. 510.

§ 104.2 [Amended]

24. Amend § 104.2(b) by removing “, 999 E Street NW, Washington, DC 20463” and adding in its place “at the street address identified in the definition of “Commission” in § 1.2”.

§ 104.3 [Amended]

25. Amend § 104.3(e)(5) by removing “999 E Street NW, Washington, DC 20463” and adding in its place “at the street address identified in the definition of “Commission” in § 1.2”.

§ 104.21 [Amended]

26. Amend § 104.21(c)(3) by removing “, 999 E Street NW, Washington, DC 20463” and adding in its place “at the street address identified in the definition of “Commission” in § 1.2”.

PART 111—COMPLIANCE PROCEDURE (52 U.S.C. 30109, 30107(A))

27. The authority citation for part 111 continues to read as follows:

Authority: 52 U.S.C. 30102(i), 30109, 30107(a), 30111(a)(8); 28 U.S.C. 2461 note; 31 U.S.C. 3701, 3711, 3716-3719, and 3720A, as amended; 31 CFR parts 285 and 900-904.

§ 111.4 [Amended]

28. Amend § 111.4(a) by removing “General Counsel, Federal Election Commission, 999 E Street NW, Washington, DC 20463”and adding in its place “General Counsel of the Federal Election Commission at the street address identified in the definition of “Commission” in § 1.2”.

§ 111.15 [Amended]

29. Amend § 111.15(a) by removing “General Counsel, Federal Election Commission, 999 E Street NW, Washington, DC 20463”and adding in its place “General Counsel of the Federal Election Commission at the street address identified in the definition of “Commission” in § 1.2”.

§ 111.16 [Amended]

30. Amend § 111.16(c) by removing from the first and second sentences “999 E Street NW, Washington, DC 20463”and adding in its place “at the street address identified in the definition of “Commission” in § 1.2”.

PART 112—ADVISORY OPINIONS (52 U.S.C. 30108)

31. The authority citation for part 112 continues to read as follows:

Authority: 52 U.S.C. 30108, 30111(a)(8).

§ 112.1 [Amended]

32. Amend § 112.1(e) by removing “999 E Street NW, Washington, DC 20463” and adding in its place “at the street address identified in the definition of “Commission” in § 1.2”.

§ 112.3 [Amended]

33. Amend § 112.3(d) by removing “999 E Street NW, Washington, DC 20463”and adding in its place “at the street address identified in the definition of “Commission” in § 1.2”.

PART 200—PETITIONS FOR RULEMAKING

34. The authority citation for part 200 is revised to read as follows:

Authority: 52 U.S.C. 30107(a)(8), 30111(a)(8); 5 U.S.C. 553(e).

§ 200.2 [Amended]

35. Amend § 200.2(b)(5) by removing “999 E Street NW, Washington, DC 20463” and adding in its place “at the street address identified in the definition of “Commission” in § 1.2”.

PART 9002—DEFINITIONS

36. The authority citation for part 9002 continues to read as follows:

Authority: 26 U.S.C. 9002 and 9009(b).

§ 9002.3 [Amended]

37. Amend § 9002.3 by removing “, 999 E Street NW, Washington, DC 20463”.

PART 9008—FEDERAL FINANCING OF PRESIDENTIAL NOMINATING CONVENTIONS

38. The authority citation for part 9008 continues to read as follows:

Authority: 52 U.S.C. 30105, 30111(a)(8), 30125; 26 U.S.C. 9008, 9009(b).

§ 9008.2 [Amended]

39. Amend § 9008.2(a) by removing “, 999 E Street NW, Washington, DC 20463”.

PART 9032—DEFINITIONS

40. The authority citation for part 9032 continues to read as follows:

Authority: 26 U.S.C. 9032 and 9039(b).

§ 9032.3 [Amended]

41. Amend § 9032.3 by removing “, 999 E Street NW, Washington, DC 20463”.

Dated: December 19, 2017.
On behalf of the Commission.
Steven T. Walther,
Chairman, Federal Election Commission.

[FR Doc. 2017-27683 Filed 12-22-17; 8:45 am]

BILLING CODE 6715-01-P